ENVIRONMENTAL PROTECTION AGENCY

40 CFR Part 52

[PA 182-4196b; FRL-8170-7]

Approval and Promulgation of Air Quality Implementation Plans; Pennsylvania; Withdrawal of Proposed Rule; Motor Vehicle Inspection and Maintenance Program—Request for Delay in the Incorporation of On-Board Diagnostics Testing

AGENCY: Environmental Protection Agency (EPA).

ACTION: Withdrawal of proposed rule.

SUMMARY: EPA is withdrawing a proposed rule published on June 6, 2002, pertaining to Pennsylvania's timing in incorporating on-board diagnostic (OBD) checks as an element of its motor vehicle inspection and maintenance (I/M) program. EPA's I/M requirements rule, or I/M rule, established deadlines by which states were to add OBD checks to their I/M programs (i.e., no later than January 1, 2002). However, EPA's I/M rule provided states the option to submit a request to EPA to delay OBD testing for no more than one additional year. Pennsylvania submitted a SIP revision requesting this optional one-year deadline extension on December 14, 2001.

On June 6, 2002, EPA published a direct final rule (67 FR 38894) to approve Pennsylvania's request to delay OBD testing as a revision to the Pennsylvania State Implementation Plan (SIP). EPA received adverse comments during the comment period established for that rule. On August 5, 2002 EPA published a withdrawal notice (67 FR 50602) of its June 2002 direct final rule. As stated in EPA's direct final rule, upon EPA's withdrawal of the direct final rule, a proposed rulemaking action remained in place. EPA never took final action upon that proposed rule.

Pennsylvania subsequently submitted two SIP revisions (on December 1, 2003 and January 30, 2004) that revised its I/M program in its entirety—including the incorporation of OBD checks as an element of its program. EPA published a final rule fully approving the Commonwealth's revamped I/M program on October 6, 2005 (70 FR 58313).

Since EPA has fully approved the Commonwealth's I/M program (including the OBD check component of the program), EPA's proposed rule to grant the Commonwealth's request for an extension of the deadline to incorporate OBD checks is no longer necessary. On November 17, 2005, Pennsylvania formally requested withdrawal of its December 14, 2001 SIP revision from EPA. Therefore, EPA is today withdrawing its proposed rule (67 FR 38924) to grant the Commonwealth’s OBD deadline extension.

DATES: The proposed rule is withdrawn as of May 16, 2006.

FOR FURTHER INFORMATION CONTACT: Brian Rehn, Air Quality Planning Branch, Mailcode 3AP21, 1650 Arch Street, Philadelphia, PA 19103. Phone (215) 814-2176, or e-mail rehn.brian@epa.gov.

List of Subjects in 40 CFR Part 52

Environmental protection, Air pollution control, Incorporation by reference, Intergovernmental relations, Ozone, Reporting and recordkeeping requirements.

Dated: May 5, 2006.
Donald S. Welsh,
Regional Administrator, Region III.

[FR Doc. E6-7409 Filed 5-15-06; 8:45 am]

BILLING CODE 6560-50-P